DEPARTMENT OF ENERGY

Federal Energy Regulatory Commission

[Docket No. CP23-494-001]

ANR Pipeline Company; Notice of Request for Extension of Time

Take notice that on August 1, 2024, ANR Pipeline Company (ANR) requested that the Commission grant an extension of time until October 16, 2024, to complete construction and place into service the 2023 Lincoln-Freeman New Wells Project (Project) located in Clare County, Michigan. On June 16, 2023, the Commission issued a Notice of Request Under Blanket Authorization, which established a 60-day comment period, ending on August 15, 2023, to file protests. No protests were filed during the comment period, and accordingly, the project was self-implemented on August 16, 2023, and by Rule should have been completed within one year.

To date, ANR has completed all drilling activities on Lincoln Wells 164HD, 165HD, and 166HD. However, unexpected construction issues arose on Lincoln Wells 165HD and 166HD, resulting in a delay in the previously anticipated Project in-service date of July 2024. The remaining work includes completing the final tie-ins from the new pipeline laterals to the new wells.

This notice establishes a 15-calendar day intervention and comment period deadline. Any person wishing to comment on ANR's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (NGA) (18 CFR 157.10).

As a matter of practice, the Commission itself generally acts on requests for extensions of time to complete construction for NGA facilities when such requests are contested before order issuance. For those extension requests that are contested,¹ the Commission will aim to issue an order acting on the request within 45 days.² The Commission will address all arguments relating to whether the applicant has demonstrated there is good cause to grant the extension.³ The Commission will not consider arguments that re-litigate the issuance of the certificate order, including whether the Commission properly found the project to be in the public convenience and necessity and whether the Commission's environmental analysis for the certificate complied with the National Environmental Policy Act (NEPA).⁴ At the time a pipeline requests an extension of time, orders on certificates of public convenience and necessity are final and the Commission will not re-litigate their issuance.⁵ The Director of the Office of Energy Projects, or his or her designee, will act on all of those extension requests that are uncontested.

¹ Contested proceedings are those where an intervenor disputes any material issue of the filing. 18 CFR 385.2201(c)(1).

² Algonquin Gas Transmission, LLC, 170 FERC ¶ 61,144, at P 40 (2020).

³ Id. at P 40.

⁴ Similarly, the Commission will not re-litigate the issuance of an NGA section 3 authorization, including whether a proposed project is not inconsistent with the public interest and whether the Commission's environmental analysis for the permit order complied with NEPA.

⁵ Algonquin Gas Transmission, LLC, 170 FERC ¶ 61,144, at P 40 (2020).

In addition to publishing the full text of this document in the Federal Register, the Commission provides all interested persons an opportunity to view and/or print the contents of this document via the internet through the Commission's Home Page (https://www.ferc.gov). From the Commission's Home Page on the internet, this information is available on eLibrary. The full text of this document is available on eLibrary in PDF and Microsoft Word format for viewing, printing, and/or downloading. To access this document in eLibrary, type the docket number excluding the last three digits of this document in the docket number field.

User assistance is available for eLibrary and the Commission's website during normal business hours from FERC Online Support at (202) 502-6652 (toll free at 1-866-208-3676) or email at ferconlinesupport@ferc.gov, or the Public Reference Room at (202) 502-8371, TTY (202) 502-8659. Email the Public Reference Room at public.referenceroom@ferc.gov.

The Commission strongly encourages electronic filings of comments in lieu of paper using the “eFile” link at https://www.ferc.gov. In lieu of electronic filing, you may submit a paper copy which must reference the Project docket number.

To file via USPS: Debbie-Anne A. Reese, Acting Secretary, Federal Energy Regulatory Commission, 888 First Street NE, Washington, DC 20426

To file via any other courier: Debbie-Anne A. Reese, Acting Secretary, Federal Energy Regulatory Commission, 12225 Wilkins Avenue, Rockville, Maryland 20852

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Comment Date: 5:00 p.m. Eastern Time on August 19, 2024.

Dated: August 2, 2024.
Debbie-Anne A. Reese,
Acting Secretary.

[FR Doc. 2024-18058 Filed 8-13-24; 8:45 am]

BILLING CODE 6717-01-P